DEPARTMENT OF THE INTERIOR

National Park Service

Bureau of Land Management

[NM-930-03-1610-DS-005G]

Notice of Availability of Proposed Plan and Final Environmental Impact Statement

AGENCY: National Park Service (NPS), Bureau of Land Management (BLM), Interior.

ACTION: Notice of availability of a proposed plan and Final Environmental Impact Statement (FEIS) for El Camino Real de Tierra Adentro National Historic Trail, and proposed amendments to the Taos, Mimbres, and White Sands Resource Management Plans (RMPs), New Mexico.

SUMMARY: The NPS and the BLM announce the availability of the proposed El Camino Real de Tierra Adentro National Historic Trail Comprehensive Management Plan (CMP) and FEIS. The proposed plan would provide for active resource protection, preservation, and visitor use, reflecting the public's vision for managing the trail between El Paso, Texas, and San Juan Pueblo, New Mexico. Trail management would be conducted cooperatively with both public and private partners. The proposed plan also would amend the BLM's Taos, White Sands, and Mimbres RMPs related to protection of scenic values.

Added to the National Trails System in October 2000, El Camino Real de Tierra Adentro (Royal Road of the Interior) National Historic Trail (NHT) recognizes the primary route between the colonial Spanish capital of Mexico City and the Spanish provincial capitals at San Juan de Los Caballeros (1598-1600), San Gabriel (1600-1609), and then Santa Fe (1610-1821). The NHT, as designated, extends 404 miles from El Paso, Texas, to San Juan Pueblo, New Mexico. This CMP/FEIS focuses on the NHT's purpose and significance, issues and concerns related to current conditions along the NHT, resource protection, visitor experience and use, and long-term administrative and management objectives. Elements of the plan have been developed in cooperation with Federal, State, and local agencies, as well as nonprofit and nongovernmental organizations “ the entities that will form the core of partnerships with the NHT. Community meetings were held in Alcalde, Española, Santa Fe, Albuquerque, Socorro, Truth or Consequences, Sunland Park, and Las Cruces, New Mexico, as well as in El Paso, Texas; meetings also were held with several North American Indian Pueblos. The preferred alternative from the Draft CMP/DEIS is carried forward in the proposed CMP/FEIS as the proposed comprehensive management plan. The preferred alternative (proposed plan) would implement the provisions of the National Trails Systems Act, reflect the public's vision for the administration and management of the trail, and implement an ambitious program of resource preservation and visitor use. Trail administration and partners would work cooperatively to provide coordinated programming and activities that integrate themes, resources, and landscapes at certified sites on private land or protected sites on public land. Resources that best illustrate the trail's significance would be identified and protected on both public and private land (high-potential sites and segments). Certification priorities would be placed upon sites and segments supporting interpretive and educational programming and protecting significant resources. An auto tour route would be established. A bi-national approach with Mexico would promote activities such as interpretation, events, and signage. The BLM's Taos, White Sands, and Mimbres RMPs would be amended to protect important scenic values.

DATES: Protests on the New Mexico BLM State Director's proposed decisions must be received within 30 days from the date that the Environmental Protection Agency publishes a notice of availability and filing of the proposed plan/FEIS in the Federal Register. Please see the SUPPLEMENTARY INFORMATION section of this notice for instructions on filing protests.

FOR FURTHER INFORMATION CONTACT: Team Leader Harry Myers, El Camino Real de Tierra Adentro National Historic Trail, National Park Service, Long Distance Trails Office, P.O. Box 728, Santa Fe, New Mexico 87504-0728; or Team Leader Sarah Schlanger, El Camino Real de Tierra Adentro National Historic Trail, Bureau of Land Management, New Mexico State Office, P.O. Box 27115, Santa Fe, New Mexico 87502-0115.

SUPPLEMENTARY INFORMATION: The Draft CMP/EIS was made available for public review and comment from October 18, 2002, to January 15, 2003. Six public meetings were held to solicit comments; comments were also provided by mail, e-mail, and through the project Web site www.elcaminoreal.org. A total of 54 individuals representing private concerns, State, or Federal agencies outside BLM and NPS submitted 47 comments documents. Of these, 18 were exact text duplicates printed on separate letterhead. Comment documents generated some 66 separate comments that were assessed and utilized in strengthening the CMP/FEIS. The preferred alternative presented in the draft CMP/EIS has been brought forward, with minor modifications, as the proposed CMP.

Copies of this document have been mailed to individuals who submitted original letters or e-mails, or who provided comments at the public meetings, as well as appropriate state and Federal agencies and local and tribal governments. In addition, copies have been sent to those persons who received copies of the draft and requested to be on the mailing list for the CMP/FEIS. The CMP/FEIS is available for review at the Camino Real Administration Office, 1100 Old Santa Fe Trail, Santa Fe, New Mexico 87505. The document is also available on the Internet at www.elcaminoreal.org.

The BLM planning regulations (43 CFR 1610.5-2) state that any person who participated in the planning process and has an interest which may be adversely affected may protest. A protest may raise only those issues which were submitted for the record during the planning process. The protest must be filed within 30 days of the date that the Environmental Protection Agency publishes the notice of receipt of the Proposed Plan/FEIS. All protests must be in writing and mailed to the following address:

Regular Mail: Director (210), Attention: Brenda Williams, P.O. Box 66538, Washington, DC 20035.

Overnight Mail: Director (210), Attention: Brenda Williams, 1620 L Street, NW., Suite 1075, Washington, DC 20036.

The protest must contain:

a. The name, mailing address, telephone number, and interest of the person filing the protest.

b. A statement of the part or parts of the plan and the issue or issues being protested.

c. A copy of all documents addressing the issue(s) that the protesting party submitted during the planning process or a statement of the date they were discussed for the record.

d. A concise statement explaining why the protestor believes the New Mexico BLM State Director's decision is wrong.

E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and e-mails to Brenda_Hudgens-Williams@blm.gov.

Plan approval will be documented in a Record of Decision that will be made available to the public and mailed to all interested parties. The Camino Real Administration plans to use the CMP as the framework for pursuing collaborative management of trail resources. Comprehensive management plan implementation usually involves on-the-ground management actions and permitted uses that require further analysis and decision making including public involvement and allows for appeals of decisions under applicable regulations.

Carsten F. Goff,
Acting State Director, BLM—New Mexico/Oklahoma/Texas.
Michael D. Snyder,
Deputy Regional Director, NPS, Intermountain Region.

[FR Doc. 04-9745 Filed 4-29-04; 8:45 am]

BILLING CODE 4310-FB-P